DEPARTMENT OF COMMERCE

International Trade Administration

[A-201-838]

Seamless Refined Copper Pipe and Tube From Mexico: Final Results of Antidumping Duty Administrative Review and Final Determination of No Shipments; 2014-2015

AGENCY: Enforcement and Compliance, International Trade Administration, Commerce.

SUMMARY: On December 12, 2016, the Department of Commerce (the Department) published the preliminary results of the administrative review of the antidumping duty order on seamless refined copper pipe and tube from Mexico. The review covers three producers/exporters of the subject merchandise, GD Affiliates S. de R.L. de C.V. (Golden Dragon), Nacional de Cobre, S.A. de C.V. (Nacobre), and IUSA, S.A. de C.V. (IUSA). The period of review (POR) is November 1, 2014, through October 31, 2015. No interested party submitted comments on the preliminary results. The final results do not differ from the preliminary results.

DATES: Effective February 21, 2017.

FOR FURTHER INFORMATION CONTACT: Dennis McClure or George Ayache, AD/CVD Operations, Office VIII, Enforcement and Compliance, International Trade Administration, U.S. Department of Commerce, 1401 Constitution Avenue NW., Washington, DC 20230; telephone: (202) 482-5973 or (202) 482-2623, respectively.

SUPPLEMENTARY INFORMATION:

Background

This review covers three producers/exporters of the subject merchandise, Golden Dragon,¹ Nacobre, and IUSA. On December 12, 2016, the Department published in the Federal Register the preliminary results of administrative review of the antidumping duty order on seamless refined copper pipe and tube from Mexico.²

¹ The Department previously treated GD Affiliates S. de R.L. de C.V. as part of a single entity including: (1) GD Copper Cooperatief U.A.; (2) Hong Kong GD Trading Co. Ltd.; (3) Golden Dragon Holding (Hong Kong) International, Ltd.; (4) GD Copper U.S.A. Inc.; (5) GD Affiliates Servicios S. de R.L. de C.V.; and (6) GD Affiliates S. de R.L. de C.V., which is collectively referred to as Golden Dragon. See, e.g., Seamless Refined Copper Pipe and Tube from Mexico: Final Results of Antidumping Duty New Shipper Review, 77 FR 59178 (September 26, 2012), and accompanying Issues and Decision Memorandum.

² See Seamless Refined Copper Pipe and Tube from Mexico: Preliminary Results of Antidumping Duty Administrative Review; 2014-2015, 81 FR 89434 (December 12, 2016) (Preliminary Results), and accompanying Preliminary Decision Memorandum.

We invited parties to comment on the Preliminary Results. No interested party submitted comments. As a result, the final results do not differ from the Preliminary Results. We continue to find that sales of subject merchandise by Golden Dragon and Nacobre were made at prices less than normal value during the POR. We continue to find that IUSA had no shipments of subject merchandise during the POR. The Department conducted this administrative review in accordance with section 751(a) of the Tariff Act of 1930, as amended (the Act).

Scope of the Order ³

³ See Seamless Refined Copper Pipe and Tube from Mexico and the People's Republic of China: Antidumping Duty Orders and Amended Final Determination of Sales at Less Than Fair Value From Mexico, 75 FR 71070 (November 22, 2010) (Amended Final and Order).

The merchandise subject to the order is seamless refined copper pipe and tube. The product is currently classified under the Harmonized Tariff Schedule of the United States (HTSUS) subheadings 7411.10.1030 and 7411.10.1090, and also may enter under HTSUS subheadings 7407.10.1500, 7419.99.5050, 8415.90.8065, and 8415.90.8085. Although the HTSUS numbers are provided for convenience and customs purposes, the written product description, available in the Preliminary Decision Memorandum,⁴ remains dispositive.

⁴ For a complete description of the scope of the order, see the Preliminary Decision Memorandum at 3, which can be accessed directly at http://enforcement.trade.gov/frn/.

Final Determination of No Shipments

As noted in the Preliminary Results, the Department received a claim of no shipments from IUSA. Based on the results of our U.S. Customs and Border Protection (CBP) data query to determine whether there were any entries of subject merchandise during the POR from IUSA, for the final results, the Department continues to find that IUSA did not have any reviewable entries during the POR.⁵

⁵ For a full explanation of the Department's analysis, see the Preliminary Decision Memorandum at 4.

Final Results of the Review

The Department determines that the following weighted-average dumping margins exist for entries of subject merchandise that were produced and/or exported by the following companies during the POR:

Exporter/producer | Weighted-average dumping margins (percent)
GD Affiliates S. de R.L. de C.V. | 1.93
Nacional de Cobre, S.A. de C.V. | 6.50

Assessment Rates

The Department shall determine, and CBP shall assess, antidumping duties on all appropriate entries of subject merchandise in accordance with the final results of this review.⁶ We intend to instruct CBP to liquidate entries of subject merchandise produced and/or exported by the aforementioned companies. In accordance with the Department's “automatic assessment” practice, for entries of subject merchandise during the POR produced by Golden Dragon or Nacobre for which they did not know their merchandise was destined for the United States, we intend to instruct CBP to liquidate unreviewed entries at the all-others rate.⁷ Additionally, because the Department determined that IUSA had no shipments of subject merchandise during the POR, any suspended entries that entered under IUSA's AD case number (i.e., at that exporter's rate) will be liquidated at the all-others rate effective during the period of review.⁸

⁶ See section 751(a)(2)(C) of the Act and 19 CFR 351.212(b).

⁷ For a full discussion of this clarification, see Antidumping and Countervailing Duty Proceedings: Assessment of Antidumping Duties, 68 FR 23954 (May 6, 2003).

⁸ Id.

The Department intends to issue assessment instructions to CBP 41 days after the date of publication of these final results of review, pursuant to 19 CFR 356.8(a).

Cash Deposit Requirements

The following deposit requirements will be effective upon publication of the notice of these final results for all shipments of seamless refined copper pipe and tube from Mexico entered, or withdrawn from warehouse, for consumption on or after the publication date as provided by section 751(a)(2) of the Act: (1) The cash deposit rate for the reviewed companies will be the rates established in the final results of this administrative review; (2) for merchandise exported by manufacturers or exporters not covered in this review but covered in a completed prior segment of the proceeding, the cash deposit rate will continue to be the company-specific rate published for the most recently completed segment; (3) if the exporter is not a firm covered in this review, a prior review, or the original investigation but the manufacturer is, the cash deposit rate will be the rate established for the most recently completed segment for the manufacturer of the merchandise; (4) the cash deposit rate for all other manufacturers or exporters will continue to be 26.03 percent, the all-others rate established in the Amended Final and Order. These cash deposit requirements, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of double antidumping duties.

Administrative Protective Order

In accordance with 19 CFR 351.305(a)(3), this notice also serves as a reminder to parties subject to administrative protective order (APO) of their responsibility concerning the return or destruction of proprietary information disclosed under the APO, which continues to govern business proprietary information in this segment of the proceeding. Timely written notification of the return or destruction of APO materials or conversion to judicial protective order is hereby requested. Failure to comply with the regulations and terms of an APO is a violation subject to sanction.

Notification to Interested Parties

We intend to issue and publish these results in accordance with sections 751(a)(1) and 777(i)(1) of the Act and 19 CFR 351.213(h) and 351.221(b)(5).

Dated: February 14, 2017.
Ronald K. Lorentzen,
Acting Assistant Secretary for Enforcement and Compliance.

[FR Doc. 2017-03338 Filed 2-17-17; 8:45 am]

BILLING CODE 3510-DS-P